NUCLEAR REGULATORY COMMISSION

[Docket No. 50-400-LA; ASLBP No. 99-762-02-LA]

Carolina Power & Light Company; Notice of Reconstitution

Pursuant to the authority contained in 10 CFR 2.721, the Atomic Safety and Licensing Board in the Carolina Power & Light Company proceeding, with the above-identified Docket Number, is hereby reconstituted by appointing Administrative Judge Thomas D. Murphy in place of Administrative Judge Frederick J. Shon. This Licensing Board reconstitution is a result of Judge Shon's retirement.

As reconstituted, the Board is comprised of the following Administrative Judges: G. Paul Bollwerk, III, Chairman, Dr. Peter S. Lam, Thomas D. Murphy.

All correspondence, documents, and other material shall be filed with the Licensing Board in accordance with 10 CFR 2.712. The address of the new member is: Administrative Judge Thomas D. Murphy, Atomic Safety and Licensing Board Panel, U.S. Nuclear Regulatory Commission, Washington, DC 20555-0001.

Issued at Rockville, Maryland, this 28th day of August 2000.
G. Paul Bollwerk III,
Chief Administrative Judge, Atomic Safety and Licensing Board Panel.

[FR Doc. 00-22493 Filed 8-31-00; 8:45 am]

BILLING CODE 7590-01-P